OFFICE OF SPECIAL COUNSEL

Survey Renewal for FY 2015—Request for Comment

AGENCY: Office of Special Counsel.

ACTION: Second notice for public comment.

SUMMARY: In accordance with the Paperwork Reduction Act of 1995 (44 U.S.C. Chapter35), and implementing regulations at 5 CFR part 1320, the U.S. Office of Special Counsel (OSC), plans to request approval from the Office of Management and Budget (OMB) for use of a previously approved information collection consisting of an electronic survey form. The current OMB approval for the OSC Survey expires 10/31/15. We are submitting the electronic survey for renewal, based on its pending expiration. There are several changes being submitted with this request for renewal of the use of the OSC survey. Current and former Federal employees, employee representatives, other Federal agencies, state and local government employees, and the general public are invited to comment on this for the second time. Comments are invited on: (a) Whether the proposed collection consisting of our survey is necessary for the proper performance of OSC functions, including whether the information will have practical utility; (b) the accuracy of OSC's estimate of the burden of the proposed collection of information; (c) ways to enhance the quality, utility, and clarity of the information to be collected; and (d) ways to minimize the burden of the collection of information on respondents, including through the use of automated collection techniques or other forms of information technology.

DATES: Comments should be received by October 5, 2015.

FOR FURTHER INFORMATION CONTACT: Karl Kammann, Chief Financial Officer, at the address shown above; by facsimile at (202) 254-3711.

SUPPLEMENTARY INFORMATION: OSC is an independent agency responsible for, among other things, (1) investigation of allegations of prohibited personnel practices defined by law at 5 U.S.C. 2302(b), protection of whistleblowers, and certain other illegal employment practices under titles 5 and 38 of the U.S. Code, affecting current or former Federal employees or applicants for employment, and covered state and local government employees; and (2) the interpretation and enforcement of Hatch Act provisions on political activity in chapters 15 and 73 of title 5 of the U.S. Code.

Title of Collection: Office of Special Counsel (OSC) Annual Survey; OMB Control Number 3255-0003, Expiration 10/31/2015.

OSC is required to conduct an annual survey of individuals who seek its assistance. Section 13 of Public Law 103-424 (1994), codified at 5 U.S.C. 1212 note, states, in part: “[T]he survey shall—(1) Determine if the individual seeking assistance was fully apprised of their rights; (2) determine whether the individual was successful either at the Office of Special Counsel or the Merit Systems Protection Board; and (3) determine if the individual, whether successful or not, was satisfied with the treatment received from the Office of Special Counsel.”

The same section also provides that survey results are to be published in OSC's annual reports to Congress. Copies of prior years' annual reports are available on OSC's Web site, at https://osc.gov/Pages/Resources-ReportsAndInfo.aspx or by calling OSC at (202) 254-3600. The survey form for the collection of information is available by calling OSC at (202) 254-3600. Type of Information Collection Request: Approval of previously approved collection of information that expires on 10/31/2015, with some revisions. The Disclosure Unit was added for the first time to the electronic survey of individuals with cases resolved in FY 2014. The second major change is that the survey is hosted by Survey Monkey, (https://www.surveymonkey.com) rather than being an in-house supported IT tool. A future enhancement will add an additional question to the survey about the user's experience with our new OSC Form 14 Wizard and electronic complaint form, which is currently in development.

Affected public: Current and former Federal employees, applicants for Federal employment, state and local government employees, and their representatives, and the general public.

Respondent's Obligation: Voluntary.

Estimated Annual Number of Survey Form Respondents: 320.

Frequency of Survey form use: Annual.

Estimated Average Amount of Time for a Person to Respond to survey: 12 minutes.

Estimated Annual Survey Burden: 109 hours.

This survey form is used to survey current and former Federal employees and applicants for Federal employment who have submitted allegations of possible prohibited personnel practices or other prohibited activity for investigation and possible prosecution by OSC, and whose matter has been closed or otherwise resolved during the prior fiscal year, on their experience with OSC. Specifically, the survey asks questions relating to whether the respondent was: (1) Apprised of his or her rights; (2) successful at the OSC or at the Merit Systems Protection Board; and (3) satisfied with the treatment received at the OSC.

Dated: August 25th, 2015.
Carolyn N. Lerner,
Special Counsel.

[FR Doc. 2015-21780 Filed 9-2-15; 8:45 am]

BILLING CODE 7405-01-P